DEPARTMENT OF DEFENSE

GENERAL SERVICES ADMINISTRATION

NATIONAL AERONAUTICS AND SPACE ADMINISTRATION

48 CFR Part 25

[FAC 2005-24; FAR Case 2007-016; Item III; Docket 2008-0001; Sequence 3]

RIN 900-AK89

Federal Acquistion Regulation; FAR Case 2007-016, Trade Agreements-New Thresholds

Correction

In rule document E8-3390 beginning on page 10962 in the issue of Thursday, February 28, 2008, make the following correction:

25.402 [Corrected]

On page 10963, under 25.402(b), the table is corrected to read as set forth below:

Trade Agreement | Supply contract (equal to or exceeding) | Service contract (equal to or exceeding) | Construction contract (equal to or exceeding)
WTO GPA FTAs | $194,000 | $194,000 | $7,443,000
Australia FTA | 67,826 | 67,826 | 7,443,000
Bahrain FTA | 194,000 | 194,000 | 8,817,449
CAFTA-DR (El Salvador, Dominican Republic, Guatemala, Honduras, and Nicaragua) | 67,826 | 67,826 | 7,443,000
Chile FTA | 67,826 | 67,826 | 7,443,000
Morocco FTA | 194,000 | 194,000 | 7,443,000
NAFTA:
—Canada | 25,000 | 67,826 | 8,817,449
—Mexico | 67,826 | 67,826 | 8,817,449
Singapore FTA | 67,826 | 67,826 | 7,443,000
Israeli Trade Act | 50,000 |  |

[FR Doc. Z8-3390 Filed 3-27-08; 8:45 am]

BILLING CODE 1505-01-D

NUCLEAR REGULATORY COMMISSION

10 CFR Part 171

RIN 3150-AI28

Revision of Fee Schedules; Fee Recovery for FY 2008

Correction

In proposed rule document E8-2412 beginning on page 8508 in the issue of February 13, 2008, make the following corrections:

1. On page 8517, Table XIII should appear as follows:

Table XIII.—Annual Fee Summary Calculations for Operating Power Reactors
[Dollars in millions]
Summary fee calculations | FY 2007 final | FY 2008 proposed
Total budgeted resources | $588.6 | $698.8
Less estimated part 170 receipts | −180.7 | −252.7
Net part 171 resources | 407.9 | 446.1
Allocated generic transportation | +1.0 | +1.1
Allocated surcharge | −6.0 | −4.6
Billing adjustments (including carryover) | +1.1 | −16.5
Total required annual fee recovery | 404.0 | 426.1

2. On page 8518, Table XV should appear as follows:

Table XV.—Annual Fee Summary Calculations for Test and Research Reactors
[Dollars in millions]
Summary fee calculations | FY 2007 final | FY 2008 proposed
Total budgeted resources | $0.85 | $0.99
Less estimated part 170 receipts | −0.55 | −0.66
Net part 171 resources | 0.30 | 0.33
Allocated generic transportation | +0.01 | +0.01
Allocated surcharge | −0.01 | −0.01
Billing adjustments (including carryover) | +0.00 | −0.02
Total required annual fee recovery | 0.31 | 0.31

§ 171.16 [Corrected]

3. On page 8529, in § 171.16(d), the table should appear in part as follows:

Schedule of Materials Annual Fees and Fees for Government Agencies Licensed by NRC
[See footnotes at end of table]
Category of materials licenses | Annual fees ¹ ² ³
* * * * * * *
2. Source material:
A. (1) Licenses for possession and use of source material for refining uranium mill concentrates to uranium hexafluoride [Program Code(s): 11400] | 604,000
(2) Licenses for possession and use of source material in recovery operations such as milling, in-situ leaching, heap-leaching, ore buying stations, ion exchange facilities and in-processing of ores containing source material for extraction of metals other than uranium or thorium, including licenses authorizing the possession of byproduct waste material (tailings) from source material recovery operations, as well as licenses authorizing the possession and maintenance of a facility in a standby mode.
(a) Class I facilities ⁴ [Program Code(s): 11100] | 10,900
(b) Class II facilities ⁴ [Program Code(s): 11500] | 10,900
(c) Other facilities ⁴ [Program Code(s): 11700] | ⁵ N/A
(3) Licenses that authorize the receipt of byproduct material, as defined in § 11e.(2) of the Atomic Energy Act, from other persons for possession and disposal, except those licenses subject to the fees in Category 2.A.(2) or Category 2.A.(4) [Program Code(s): 11600] | ⁵ N/A
(4) Licenses that authorize the receipt of byproduct material, as defined in § 11e.(2) of the Atomic Energy Act, from other persons for possession and disposal incidental to the disposal of the uranium waste tailings generated by the licensee's milling operations, except those licenses subject to the fees in Category 2.A.(2) | 10,900
(5) Licenses that authorize the possession of source material related to removal of contaminants (source material) from drinking water | 6,500
B. Licenses that authorize only the possession, use and/or installation of source material for shielding [Program Code(s): 11210] | 600
C. All other source material licenses [Program Code(s): 11200, 11220, 11221, 11230, 11300, 11800, 11810] | 10,300
* * * * * * *

[FR Doc. Z8-2412 Filed 3-27-08; 8:45 am]

BILLING CODE 1505-01-D